ENVIRONMENTAL PROTECTION AGENCY

[EPA-HQ-OPP-2006-0099; FRL-8094-3]

Notice of Receipt of Requests for Amendments to Delete Uses in Certain Pesticide Registrations; Technical Correction

AGENCY: Environmental Protection Agency (EPA).

ACTION: Notice.

SUMMARY: On September 1, 2006, EPA issued a Notice of Receipt of Requests for Amendments by Registrants to Delete Uses in Certain Pesticide Registrations. Section 6(f)(1) of FIFRA provides that a registrant of a pesticide product may at any time request that any of its pesticide registrations be amended to delete one or more uses. FIFRA further provides that, before acting on the request, EPA must publish a notice of receipt of any request in the Federal Register. The September 1 Notice inadvertently included a request to delete both cotton and pome fruit from EPA Registration 264-805, Thiacloprid Technical, and EPA Registration 264-806, Calypso 4 Flowable Insecticide. The Notice should have listed a request to delete only cotton from these registrations.

DATES: Because this technical correction removes one use deletion request, the effective date for the remaining use deletions remains unchanged from the September 1 Notice. The remaining deletions are effective February 28, 2007, unless the Agency receives a written withdrawal request on or before February 28, 2007. The Agency will consider a withdrawal request postmarked no later than February 28, 2007.

Users of these products who desire continued use on crops or sites being deleted should contact the applicable registrant on or before February 28, 2007.

ADDRESSES: Submit your withdrawal request, identified by docket identification (ID) number EPA-HQ-OPP-2006-0099, by one of the following methods:

• Mail: Attention: John Jamula, Information Technology and Resources Management Division (7502P), Office of Pesticide Programs, Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established a docket for this action under docket identification (ID) number EPA-HQ-OPP-2006-0099. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. What Action is the Agency Taking?

This Notice corrects an error that was contained in a September 1 notice of receipt of request for amendments by registrants to delete uses in certain pesticide registrations (71 FR 52071). The September 1 Notice inadvertently included a request to delete both cotton and pome fruit from EPA Registration 264-805, Thiacloprid Technical, and EPA Registration 264-806, Calypso 4 Flowable Insecticide. The Notice should have listed a request to delete only cotton from these registrations.

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for use deletion must submit the withdrawal in writing to John Jamula using the methods in ADDRESSES. The Agency will consider written withdrawal requests postmarked no later than February 28, 2007.

V. Provisions for Disposition of Existing Stocks

The Agency has authorized the registrants to sell or distribute product under the previously approved labeling for a period of 18 months after approval of the revision, unless other restrictions have been imposed, as in special review actions.

List of Subjects

Environmental protection, Pesticides and pests.

Dated: September 8, 2006.
Robert Forrest,
Acting Director, Information Technology and Resources Management Division, Office of Pesticide Programs.

[FR Doc. E6-15461 Filed 9-19-06; 8:45 am]

BILLING CODE 6560-50-S